DEPARTMENT OF COMMERCE

U.S. Census Bureau

Submission for OMB Review; Comment Request; Correction

The Department of Commerce will submit to the Office of Management and Budget (OMB) for clearance the following proposal for collection of information under the provisions of the Paperwork Reduction Act.

The U.S. Census Bureau published a document in the Federal Register on September 9, 2019, concerning a request for comments on the 2020 Census—Evaluations and Experiments revision. This notice contained an error in the stated response rate. The response rate that is used in the burden calculation is 60.5 percent.

FOR FURTHER INFORMATION CONTACT: Robin.A.Pennington@census.gov, (301) 763-8132.

Correction

In the Federal Register of September 9, 2019, Vol. 84, Number 174, pp. 47233-47239, FR Doc No.: 2019-19312, in the section describing the updates to the burden calculation, correct the “predicted response rate” to read: The predicted response rate within the self-response area is 60.5 percent and within the Update Leave area is 51 percent.

Sheleen Dumas,
Departmental Lead PRA Officer, Office of the Chief Information Officer, Commerce Department.

[FR Doc. 2019-20334 Filed 9-19-19; 8:45 am]

BILLING CODE 3510-07-P